DEPARTMENT OF HEALTH AND HUMAN SERVICES

Retail Pharmacy Interest in Utilization of Innovative Educational Technology To Increase Human Papillomavirus (HPV) Vaccination Rates in Rural Areas; Correction

AGENCY: National Vaccine Program Office, Office of the Assistant Secretary for Health, Office of the Secretary, Department of Health and Human Services.

ACTION: Notice; correction.

SUMMARY: The Department of Health and Human Services published a document in the Federal Register of February 15, 2019, concerning a request for information (RFI) for informational and planning purposes only. We would like to extend the deadline in order to provide more time to the public to submit their response.

FOR FURTHER INFORMATION CONTACT: Kara Elam, National Vaccine Program Office, Office of the Assistant Secretary for Health, Department of Health and Human Services; telephone (202) 690-5566; email: nvpo@hhs.gov.

SUPPLEMENTARY INFORMATION:

Correction

In the Federal of February 15, 2019, in FR Doc. 2019-02548, on page 4483, in the first column, correct the Dates caption to read:

DATES: Information from retail pharmacies with greater than 100 stores in geographic areas considered to be rural by the census definition (<50,000 population) should submit responses to this RFI as described in the addresses section below no later than midnight, 12:00 a.m. EDT on March 15, 2019.

Dated: February 25, 2019.
Tammy Beckham,
Acting Director, National Vaccine Program Office.

[FR Doc. 2019-03698 Filed 2-28-19; 8:45 am]

BILLING CODE 4150-44-P